DEPARTMENT OF STATE

[Public Notice 6538]

Meeting of the Environmental Affairs Council (EAC) of the Dominican Republic—Central America—United States Free Trade Agreement (CAFTA-DR)

AGENCY: Department of State.

ACTION: Notice and request for comments.

SUMMARY: The Department of State and the Office of the United States Trade Representative (USTR) are providing notice that, as set forth in Chapter 17 (Environment) of the Dominican Republic-Central America-United States Free Trade Agreement (CAFTA-DR), the CAFTA-DR governments intend to hold the fourth meeting of the Environmental Affairs Council (the “Council”) in San Jose, Costa Rica on March 10, 2009. The Council will hold an information session for members of the public on March 10, 2009, from 2-4 p.m. in the Ramada Herradura Hotel, facing the General Cañas Highway, five kilometers south of the Juan Santamaria International Airport. The purpose of the Council meetings is detailed below under SUPPLEMENTARY INFORMATION.

The meeting agenda will include a review of issues concerning implementation of the Environment Chapter, review and formal adoption of Working Procedures and a Public Outreach Plan for the Secretariat for Environmental Matters Under the CAFTA-DR (“Secretariat”), appointment of a new General Coordinator for the Secretariat, and presentations of various accomplishments under the CAFTA-DR Environmental Cooperation Program.

The Department of State and USTR invite interested agencies, organizations, and members of the public to submit written comments or suggestions regarding agenda items and to attend the public session. In preparing comments, we encourage submitters to refer to the CAFTA-DR Environment Chapter and the Final Environment Review of the CAFTA-DR (available at http://www.ustr.gov) and the Environmental Cooperation Agreement (ECA) (available at http://www.state.gov/g/oes/env/trade/).

DATES: To be assured of timely consideration, submit comments on or before March 9, 2009.

ADDRESSES: Written comments or suggestions should be submitted to both: (1) Rachel Kastenberg, Department of State, Bureau of Oceans, Environment, and Science, Office of Environmental Policy by electronic mail at kastenbergRL@state.gov with the subject line “CAFTA-DR EAC Meeting” or by fax to (202) 647-5947; and (2) Mara M. Burr, Deputy Assistant United States Trade Representative for Environment and Natural Resources, Office of the United States Trade Representative by electronic mail at mburr@ustr.eop.gov with the subject line “CAFTA-DR EAC Meeting” or by fax to (202) 395-9517.

FOR FURTHER INFORMATION CONTACT: Rachel Kastenberg, Telephone (202) 647-9266 or Mara M. Burr, Telephone (202) 395-7320.

SUPPLEMENTARY INFORMATION: Article 17.5 of Chapter 17 of CAFTA-DR establishes an Environmental Affairs Council (the “Council”). Article 17.5 requires the Council to meet at least once a year, unless the Parties otherwise agree, to discuss the implementation of, and progress under, Chapter 17. Article 17.5 further requires, unless the Parties otherwise agree, that each meeting of the Council include a session in which members of the Council have an opportunity to meet with the public to discuss matters relating to the implementation of Chapter 17.

In Article 17.9 of the Chapter, the Parties recognize the importance of strengthening capacity to protect the environment and to promote sustainable development in concert with strengthening trade and investment relations and state their commitment to expanding their cooperative relationship on environmental matters. Article 17.9 also notes that the Parties have negotiated an Environmental Cooperation Agreement (ECA) that sets out certain priority areas of cooperation on environmental activities. These priority areas are reflected in Annex 17.9 and include, among other things, conserving and managing shared, migratory, and endangered species in international trade; exchanging information on domestic implementation of multilateral environmental agreements that all the Parties have ratified; and strengthening each Party's environmental management systems, including reinforcing institutional and legal frameworks and the capacity to develop, implement, administer, and enforce environmental laws, regulations, standards, and polices.

At its fourth meeting, the Council will, among other things, (1) Review of issues concerning implementation of Chapter 17; (2) appoint a new General Coordinator for the Secretariat; (3) review and adopt the Secretariat's Working Procedures and Public Outreach Plan; and (4) review the status of cooperative environmental activities the Parties are implementing consistent with the CAFTA-DR ECA.

The public is advised to refer to the State Department Web site at http://www.state.gov/g/oes/env/ and the USTR Web site at http://www.ustr.gov for further information.

Dated: February 27, 2009.
Daniel T. Fantozzi,
Director, Office of Environmental Policy, Department of State.

[FR Doc. E9-4805 Filed 3-5-09; 8:45 am]

BILLING CODE 4710-09-P